FEDERAL DEPOSIT INSURANCE CORPORATION

Draft 2001-2006 Strategic Plan

ACTION: Request for comment.

SUMMARY: The Federal Deposit Insurance Corporation (FDIC), in accordance with the requirements of the Government Performance and Results Act of 1993, has developed a draft of its 2001-2006 Strategic Plan. The FDIC is now soliciting for consideration the views and suggestions of stakeholders potentially affected by or interested in this plan.

The draft strategic plan covers a five-year period and provides a framework for implementing the agency's mission of contributing to stability and public confidence in the nation's financial system. This is accomplished through the FDIC's three major program areas—Insurance, Supervision, and Receivership Management—that work to achieve the following results:

• Protection of insured depositors from loss, without recourse to taxpayer funding,

• Safety and soundness of insured depository institutions,

• Protection of consumers' rights and the investment by FDIC-supervised institutions in their communities, and

• Recovery to creditors of receiverships.

The plan can be reviewed on the FDIC's website, http://www.fdic.gov, in the “About FDIC” section.

Printed copies may be obtained from the FDIC Public Information Center by calling 1-800-276-6003 (202-416-6940 within the Washington metropolitan area) or sending electronic mail to PublicInfo@FDIC.gov.

DATES: The comment period closes July 31, 2001.

ADDRESSES: Interested parties are invited to submit their written comments to: FDIC—Division of Finance, Business Planning Section, Room 536, 801 17th Street, NW, Washington, DC 20434 or Internet E-mail: StrategicPlan@FDIC.gov

FOR FURTHER INFORMATION CONTACT: Gordon A. Goeke at the addresses identified above.

Dated at Washington, DC, this 22nd day of June, 2001.
Federal Deposit Insurance Corporation.
James D. LaPierre,
Deputy Executive Secretary.

[FR Doc. 01-16321 Filed 6-27-01; 8:45 am]

BILLING CODE 6714-01-P